DEPARTMENT OF HOMELAND SECURITY

Coast Guard

[Docket No. USCG-2013-1038]

Notice of Statute of Limitations on Claims; Notice of Final Federal Agency Action on the Interstate 5 Bridge across the Columbia River

AGENCY: Coast Guard, DHS.

ACTION: Notice of limitation on claims for judicial review.

SUMMARY: This notice announces the Coast Guard's final action on the issuance of a Coast Guard bridge permit, adoption of the bridge related portions of the Federal Highway Administration (FHWA)/Federal Transit Administration (FTA) prepared Final Environmental Impact Statement (FEIS) and issuance of a Record of Decision (ROD) for the Interstate 5 bridge across the Columbia River between Vancouver, Washington and Portland, Oregon.

DATES: A claim seeking judicial review of the Coast Guard's action on the Columbia River Crossing project will be barred unless the claim is filed on or before May 22, 2014.

FOR FURTHER INFORMATION CONTACT: Brian Dunn, Chief, Office of Bridge Programs, Commandant (CG-BRG), Attn: Office of Bridge Programs, U.S. Coast Guard Stop 7418, 2703 Martin Luther King Jr Ave, SE., Washington, DC 20593-7418, available 8 a.m.-4 p.m., EST, Monday through Friday, except Federal holidays, phone number (202) 372-1511 or email: brian.dunn@uscg.mil.

SUPPLEMENTARY INFORMATION: This notice is issued under the authority of the Freedom of Information Act, 5 U.S.C. 552(a).

Notice is hereby given that the Coast Guard, under its General Bridge Act of 1946 permit authority, 33 U.S.C. 525-533, has taken final agency action(s) subject to 23 U.S.C. 139(I)(1) by issuing a bridge permit. In addition, and in accordance with the National Environmental Policy Act (NEPA), the Coast Guard also adopted the bridge related portions of the FHWA/FTA prepared FEIS and issued a ROD. The project involves replacing the I-5 bridge across navigable waters of the United States by replacing the existing lift bridge with a fixed bridge. As a structure over navigable waters of the United States, the proposed bridge requires a Coast Guard bridge permit. The Coast Guard issued a bridge permit on September 27, 2013 for the proposed new fixed bridge. FHWA and FTA were lead federal agencies under NEPA for this project. The Coast Guard was a cooperating agency under NEPA and adopted the bridge related portions of the FHWA/FTA FEIS and issued a ROD on September 27, 2013. The actions by the co-lead Federal agencies, and the laws under which such actions were taken, are described in the FHWA/FTA FEIS published in the Federal Register on September 23, 2011, FR Doc. # 2011-24504, page 59125, and in the FHWA/FTA ROD issued on December 7, 2011. The FHWA/FTA Notice of Limitation on Claims was published in the Federal Register on January 5, 2012, FR Doc. # 2011-33784, pages 531-532, by the FHWA and FTA regarding environmental actions taken by those agencies.

This notice applies to the Coast Guard's decisions as of the issuance date of this notice and all laws under which such actions were taken, including but not limited to:

1. General: General Bridge Act of 1946 (33 U.S.C. 525-533); National Environmental Policy Act (42 U.S.C. 4321-4347); Federal-Aid Highway Act (23 U.S.C. 109); the Federal transit statutes (49 U.S.C. Chapter 53).

2. Air: Clean Air Act, as amended (42 U.S.C. 7401-7671(q)).

3. Land: Section 4(f) of the Department of Transportation Act of 1966 (49 U.S.C. 303); Landscaping and Scenic Enhancement (Wildflowers) (23 U.S.C. 319).

4. Wildlife: Endangered Species Act (16 U.S.C. 1531-1544); Anadromous Fish Conservation Act (16 U.S.C. 757(a)-757(f)); Fish and Wildlife Coordination Act (16 U.S.C. 661-667(e)); Magnuson-Stevenson Fishery Conservation and Management Act of 1976, as amended (16 U.S.C. 1801 et seq.); Migratory Bird Treaty Act (16 U.S.C. 703-712).

5. Historic and Cultural Resources: Section 106 of the National Historic Preservation Act of 1966, as amended (16 U.S.C. 470f); Archaeological Resources Protection Act of 1977 (16 U.S.C. 470aa-470mm); Archaeological and Historic Preservation Act (16 U.S.C. 469-469c-2); Native American Grave Protection and Repatriation Act (25 U.S.C. 3001-3013).

6. Social and Economic: Civil Rights Act of 1964 (42 U.S.C. 2000(d)-2000(d)(1)); American Indian Religious Freedom Act (42 U.S.C. 1996); Farmland Protection Policy Act (7 U.S.C. 4201-4209); the Uniform Relocation Assistance and Real Property Acquisition Policies Act of 1970, as amended (42 U.S.C. 61).

7. Wetlands and Water Resources: Sections 319, 401, and 404 of the Clean Water Act, 33 U.S.C. 1251-1377; Coastal Zone Management Act (16 U.S.C. 1451-1465); Land and Water Conservation Fund (16 U.S.C. 4601-4-4601-11); Safe Drinking Water Act (42 U.S.C. 300f et seq.); Rivers and Harbors Act of 1899 (33 U.S.C. 401-406); TEA-21 Wetlands Mitigation (23 U.S.C. 103(b)(6)(m), 133(b)(11)); Flood Disaster Protection Act (42 U.S.C. 4001-4129).

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction. The regulations implementing Executive Order 12372 regarding intergovernmental consultation on Federal programs and activities apply to this program.) Nothing in this notice creates a cause of action under these executive orders.

Dated: December 17, 2013.
Brian L. Dunn,
Chief, Office of Bridge Programs, U.S. Coast Guard.

[FR Doc. 2013-30380 Filed 12-20-13; 8:45 am]

BILLING CODE 9110-04-P